DEPARTMENT OF EDUCATION

Applications for New Awards; State-Tribal Education Partnership (STEP) Pilot Grant Competition

AGENCY: Office of Elementary and Secondary Education, Department of Education.

ACTION: Notice.

Overview Information

State-Tribal Education Partnership (STEP) Pilot Notice inviting applications for new awards for fiscal year (FY) 2012.

Catalog of Federal Domestic Assistance (CFDA) Number: 84.415A.

DATES:

Applications Available: May 29, 2012.

Deadline for Notice of Intent to Apply: June 12, 2012.

Dates of Pre-Application Meetings: June 1, 2012, and June 5, 2012.

Deadline for Transmittal of Applications: July 13, 2012.

Full Text of Announcement

I. Funding Opportunity Description

Purpose of Program: The fiscal year 2012 appropriation for the Department of Education includes funding for a pilot program under the Indian Education National Activities authority. Under the pilot, the Department will award competitive grants to Tribal Education Agencies (TEAs) to increase their role in the education of American Indian and Alaska Native (AI/AN) students, including education to meet the unique educational and cultural needs of AI/AN students and improve their academic achievement.

Specifically, the purposes of these grants are to (a) promote increased collaboration between TEAs and State educational agencies (SEAs) in the administration of certain State-administered formula grant programs, and (b) build the capacity of TEAs to conduct certain State-level administrative functions under those programs for eligible schools located on a reservation.

Requirements and Definitions:

Background: Under this pilot program, known as the State-Tribal Education Partnership (STEP) Pilot, the Department intends to fund the implementation of collaborative agreements between Tribal Education Agencies (TEAs) (as defined in this notice) and SEAs. Under these agreements, SEAs will transfer to TEAs some State-level functions related to the administration of certain Elementary and Secondary Education Act (ESEA) programs for eligible schools (as defined in this notice) located on a reservation (as defined in this notice), with the goal of improving educational outcomes for AI/AN students.

The most critical aspect of the STEP Pilot will be the strength of the collaborative agreement between the TEA and the SEA. The agreement must document the SEA's and the TEA's commitment to the pilot project and describe in detail what is to be accomplished during the project period (as defined in this notice). However, the Department recognizes that, given the complexities involved in developing such an agreement, the application period for the STEP Pilot grant program likely will not be long enough for TEAs and SEAs to complete a detailed collaborative agreement that adequately addresses each of the issues that need to be considered. Therefore, we are requiring an application for a STEP Pilot grant to include a written preliminary agreement between the participating SEA and the TEA under which the SEA and TEA agree to (a) work together toward the transfer of agreed-upon State-level ESEA formula grant administrative functions to the TEA over the course of the project, and (b) collaborate on activities that will enable the TEA to begin to carry out those functions by July 2, 2013. Within nine months from the start of the grant period, the TEA and SEA must enter into a final collaborative agreement that builds on the preliminary agreement and details the activities that the two agencies will carry out under the grant to enable the TEA to perform the agreed-upon State-level administrative functions by the end of the project period and beyond. Each TEA grantee must submit the final agreement to the Department by June 29, 2013. The Department's review of the final agreement will serve as one basis for continued funding in grant years two and three.

The Department expects that, during the first year of the STEP Pilot, the SEA will work with the TEA to prepare the TEA to perform the State-level administrative functions detailed in the preliminary agreement, so that by July 2, 2013, the TEA will begin to perform those functions. By the end of the project, the Department expects that each TEA grantee will be able to carry out selected State-level administrative functions under ESEA State-administered formula grant programs and that the TEA will have strengthened its relationship with the SEA, local educational agencies (LEAs), and schools on a reservation in a manner that is sustainable and supports the TEA's efforts to improve educational services and outcomes for AI/AN students.

Note: The Department will not grant formula funds to TEAs as a part of this pilot program. We cannot change the designated grantee, under an ESEA program, from an SEA to a different entity without a statutory change to the ESEA, and the FY 2012 Appropriations Act does not provide that authority. Grant funds awarded to successful applicants (as defined in this notice) will consist only of discretionary funds appropriated for this competition. SEAs that participate in a project under the pilot will continue to subgrant ESEA State-administered formula funds to LEAs that are eligible to receive them, including LEAs with schools participating in that project. SEAs will continue to have the responsibility to ensure subrecipient compliance with the applicable laws and regulations governing all ESEA State-administered formula grant programs. However, an SEA could, as part of its agreement with a TEA, provide a portion of the SEA's administrative set-aside funds under ESEA programs to a TEA in accordance with applicable State procurement law. The Department will continue to monitor the performance of the SEA as the agent required to comply with Federal law.

Preliminary Agreement Requirements:

An applicant must submit a preliminary agreement between the TEA and the SEA with its application for funding. Letters of support from an SEA will not meet this requirement.

The preliminary agreement must include—

(a) A clear vision for how the SEA and TEA will work collaboratively to administer selected ESEA State-administered formula grant programs in eligible schools;

(b) A list of the ESEA State-administered formula programs for which the TEA will assume State-level administrative functions;

(c) A description of the State-level administrative functions the TEA will assume by July 2, 2013, and by the end of the project period;

(d) The capacity-building activities that both the TEA and the SEA will carry out before July 2, 2013, in order for the TEA to be ready to assume those functions;

(e) A description of the capacity-building (as defined in this notice) activities that the SEA will undertake to prepare the TEA to assume those functions, and of any assistance that the TEA will provide to the SEA to facilitate the project. This assistance may include, among other things, (1) Increasing the SEA's knowledge about the unique cultural and academic needs of AI/AN students enrolled in schools that will participate in the project, (2) addressing those needs more effectively, and (3) increasing the SEA's ability to work effectively with TEAs in a culturally competent manner (as defined in this notice);

(f) A list of the LEAs and eligible schools expected to participate in the project;

(g) The collaborative activities the SEA and TEA will undertake to produce a final agreement; and

(h) The activities the SEA and the TEA will undertake to engage LEAs' participation in the grant project.

Final Agreement Requirements:

By June 29, 2013, nine months after the start of the first grant period, each TEA grantee must submit to the Department a final agreement that builds on the preliminary agreement and details a feasible, sustainable plan for how the TEA and SEA will work together and in collaboration with affected LEAs to administer selected ESEA State-administered formula grant programs to children in public schools on reservations. The final agreement must—

(a) Expand and refine, as appropriate, the vision presented in the preliminary agreement for how the TEA and SEA will work together and in collaboration with the selected LEAs to administer ESEA formula grant programs in ways that (1) acknowledge and support the role of the tribe in educating its students, and (2) account for the responsibility of the SEA to ensure that LEAs are in compliance with the laws and regulations that govern the relevant formula grant programs.

(b) Make explicit what will be accomplished during the remainder of the project period in order to fully realize that vision, including by providing detailed descriptions of (1) The specific functions that the TEA will assume for one or more ESEA State-administered programs, (2) the timetable for the TEA assuming those functions, (3) the knowledge and competencies the TEA will need to acquire over the remainder of the project period in order to perform those functions successfully, (4) the functions or aspects of functions that the SEA will retain for the programs and schools covered by the agreement, (5) the activities that the SEA (directly or through contracted entities) will conduct to ensure that the TEA is able to perform its new functions successfully, (6) the activities, if appropriate, that the TEA and SEA will carry out in order to increase the SEA's knowledge about the unique cultural and academic needs of AI/AN students enrolled in participating schools and about how to address those needs more effectively, and (7) the activities, if appropriate, that the SEA and TEA will undertake to further their ability to work together effectively in a culturally competent manner.

(c) Discuss the actions that the TEA and SEA will take to sustain the TEA's assumption of State-level responsibilities for the ESEA programs for the participating schools after the project ends.

(d) Include a list of the eligible schools that will participate in the second and third grant periods. The list may differ from the list of schools included in the preliminary agreement.

(e) Make explicit how the specific functions that the TEA will assume during the course of the grant will (1) align with and support Federal and State education priorities and initiatives to improve the education outcomes for all students and ensure that all students graduate high school college- and career-ready; and (2) address the unique educational and cultural needs of the students.

(f) Identify challenges (e.g., legislative constraints, State policy constraints, local school board rules, collective bargaining agreements) that may pose a risk to the implementation of the project and the strategies that the TEA and SEA will pursue in order to overcome those challenges.

(g) Assure that the TEA and SEA understand the continued responsibility of the SEA to ensure that affected LEAs are in compliance with the relevant ESEA formula grant laws and regulations.

(h) Describe how the TEA and SEA will work together to support the SEA's continued oversight responsibilities.

(i) Describe the relationships to be built among the TEA, the SEA, and the affected LEAs, including lines of authority, responsibility, and methods of communication.

(j) Include a letter of support from the superintendent of each LEA that will participate in the project indicating that the superintendent understands and supports the purposes, activities, and outcomes of the project as proposed in the application and defined in the final agreement.

Application Requirements:

To be considered for an award under this competition, each applicant must complete an application for funding. Detailed application instructions can be found in the application package. The application package will be available online at www.grants.gov on May 29, 2012.

As a part of the application for the STEP Pilot, each applicant must provide a detailed project narrative and a budget narrative.

Project Narrative. The project narrative must explain how the terms of the agreement between the TEA and SEA, as outlined in the preliminary agreement, will be met. At minimum, the project narrative must—

(a) Describe the proposed STEP Pilot project goals and objectives pursuant to the vision and terms of agreement outlined in the preliminary agreement and the timeline for accomplishing the goals and objectives over the project period;

(b) Describe the demographics of the LEA (or LEAs) and eligible schools for which the TEA will perform ESEA State-level administrative functions and explain the rationale for selecting those LEAs and schools;

(c) Explain the rationale for selecting the ESEA State-administered formula grant program(s) for which the TEA will perform State-level administrative functions;

(d) Explain the rationale for selecting the State-level functions the TEA will perform during the project period and the timeline for the TEA assuming those functions;

(e) Explain how the TEA's performance of those functions will support the implementation of State and local efforts to improve services to and the educational outcomes for AI/AN children;

(f) Describe the functions the TEA will be able to perform during each year of the grant;

(g) Describe how the STEP Pilot grant funds will enable the TEA capacity to carry out the agreed upon State-level functions;

(h) Discuss the actions that the TEA and SEA will take during the first nine months of the grant toward developing a final agreement;

(i) Identify the members of the applicant's project team and each member's role and responsibility;

(j) Describe the qualifications of key personnel on the project team and the time each will allocate to the project;

(k) Identify the key SEA contacts and the role each will have in carrying out the activities of the project;

(l) If the application is submitted by a consortium, describe each consortium member's role, activities, and time allocated to the project;

(m) If applicable, identify consultants to the project, their role, and their qualifications;

(n) Describe the organizational structure for managing project activities and resources, including lines of authority and procedures for decision-making;

(o) Include a schedule of tasks and timelines for carrying out the activities of the grant that assign responsibility for each task, including milestones and deliverables;

(p) Describe the procedures and measures that the applicant will use to document project activities, monitor progress in implementing those activities, and assess how effectively project activities meet the goals and objectives of the grant; and

(q) To the extent the TEA's performance under this agreement requires the use of information from student education records covered by the Family Educational Rights and Privacy Act (FERPA) or other privacy statutes, explain how compliance with FERPA and other privacy statutes will be achieved (e.g. under FERPA, the participating LEA(s) may designate the TEA as a school official for certain functions; or the SEA may designate the TEA as an authorized representative under the audit and evaluation exception).

Note: In drafting the project narrative, applicants should keep in mind that peer reviewers must consider only the information provided in the written project narrative when scoring and commenting on the application. Therefore, applicants should draft their project narratives with the goal of helping peer reviewers understand how the narrative content aligns with the selection criteria described in section V of this notice.

Budget Narrative. Specific requirements for the budget narrative are in the application package. In general, the budget narrative must, for each year of funding—

(a) Detail the amount of grant funds that will be allocated to each budget category;

(b) Explain how grant funds allocated to each category will be used (e.g., by the TEA to hire and train personnel, to acquire data systems, to purchase supplies and equipment, or for travel; by the SEA for training of TEA personnel or for travel).

In addition, the budget narrative must identify any procurements that will be required, the purpose for the procurements, and the procurement process that will be used.

Eligibility Requirements:

To be eligible for an award, an applicant must include, as a part of its application, evidence that documents the applicant's eligibility, including:

(a) Certification by the eligible Indian tribe, as defined in this notice, that the applicant is the agency, department, or instrumentality of the Indian tribe that is primarily responsible for supporting the elementary and secondary education of the tribe's students.

(b) Certification by the eligible Indian tribe that it has a reservation; the certification must specify the census designation under which the reservation qualifies.

(c) Confirmation by the SEA that the schools that will participate in the project are eligible schools.

Grant Award Limitations

No applicant may receive more than one grant award under this competition.

Definitions:

The following definitions apply to this program:

Applicant means the single entity that applies for a grant under this program. The applicant may be a single TEA in partnership with an SEA, or a single TEA applying on behalf of a consortium of eligible TEAs in partnership with an SEA.

Capacity refers to the level of knowledge, skills, and ability of individuals or groups to perform specific activities or functions.

Capacity-building refers to activities to strengthen the knowledge, skills, and abilities of individuals or groups to perform specific activities or functions.

Consortium of TEAs means two or more Tribal Education Agencies acting collaboratively for the purpose of applying for and implementing a joint project as part of the STEP Pilot program.

Culturally competent manner means an ability to understand, communicate with, and interact effectively with people of different cultures. Cultural competence involves (a) awareness of one's own cultural worldview and (b) knowledge of and the capacity to value different cultural practices and worldviews.

Eligible Indian tribe means a federally recognized or State-recognized tribe that has an Indian reservation on which one or more eligible schools are operating.

Eligible school means a public school operating on an eligible Indian tribe's reservation. Eligible schools do not include schools that are funded primarily by the Department of Interior's Bureau of Indian Education.

Project period for this pilot consists of three grant periods, each of 12 months duration, for a total of 36 months.

Reservation means an “American Indian Reservation or Off-Reservation Trust Land (Federal),” “Oklahoma Tribal Statistical Area,” “American Indian Reservation (State),” or “Alaska Native Village Statistical Areas,” as those terms are used by the U.S. Census Bureau (see definitions at www.census.gov/geo/www/2010census/gtc/gtc_aiannha.html).

Note: If you are unsure of a reservation's status, contact the person listed as the Agency Contact in section VII of this notice.

State-administered formula grant program means a program authorized under the Elementary and Secondary Education Act of 1965, as amended (ESEA), for which States receive formula funding, sub-grant (distribute) funds to LEAs or other entities in accordance with a statutory allocation formula and other criteria established in the statute, and oversee the use of those funds by sub-recipients. As such, State-administered ESEA formula grant programs do not include programs for which formula funds are not granted directly to the State.

Programs that could be included in a STEP Pilot project are: Title I, Part A; School Improvement Grants (ESEA § 1003(g)); Migrant Education (Title I, Part C); Neglected and Delinquent State Grants (Title I, Part D); Improving Teacher Quality State Grants (Title II, Part A); English Learner Education State Grants (Title III, Part A); 21st Century Community Learning Centers (Title IV, Part B), and Rural and Low-Income School Program (Title VI, Part B).

Note: Impact Aid (Title VIII) and the Indian Education Formula Grants program (Title VII, Part A) are not included in this definition as funds for those programs are granted by the Department directly to LEAs, not SEAs.

Tribal Education Agency (TEA) means the agency, department, or instrumentality of an eligible Indian tribe that is primarily responsible for supporting the elementary and secondary education of tribal students.

Waiver of Proposed Rulemaking: Under the Administrative Procedure Act (5 U.S.C. 553), the Department generally offers interested parties the opportunity to comment on proposed requirements, definitions, and selection criteria. Section 437(d)(1) of GEPA, however, allows the Secretary to exempt from rulemaking requirements, regulations governing the first grant competition under a new or substantially revised program authority. This is the first grant competition for the STEP program under section 7131(a)(4) of the ESEA, 20 U.S.C. 7451(a)(4), and therefore qualifies for this exemption. The Secretary has decided to forgo public comment under the waiver authority in section 437(d)(1) of GEPA in order to ensure timely grant awards. However, we have solicited public participation in two important ways as we developed an approach to conducting and implementing this competition. First, we invited the public to provide input on the program from February 23, 2012 through March 9, 2012, on the ED.gov blog. In response to this invitation, we received many comments on the questions that we posted on the blog, and we considered those comments in our development of this notice. Second, to gain further input we conducted telephone conferences with various stakeholder groups to obtain additional responses to the questions we posed on the blog, and we considered those comments as well. Several commenters requested that the Department distribute ESEA formula grant funds directly to TEAs under this pilot. As explained in the note in section I, the Department does not have statutory authority to do so.

The definitions, requirements, and selection criteria in this notice will apply to the FY 2012 grant competition and any subsequent year in which we make awards from the list of unfunded applicants from this competition.

Program Authority: Section 7131(a)(4) of the Elementary and Secondary Education Act, 20 U.S.C. 7451(a)(4).

Applicable Regulations: (a) The Education Department General Administrative Regulations (EDGAR) in 34 CFR parts 74, 75, 77, 79, 80, 81, 82, 84, 86, 97, 98, and 99. (b) The Education Department suspension and debarment regulations in 2 CFR part 3485.

Note: The regulations in 34 CFR part 79 apply to all applicants except federally recognized Indian tribes.

II. Award Information

Type of Award: Discretionary grants.

Estimated Available Funds: $1,977,000.

Estimated Range of Awards: $400,000-$500,000 for a single TEA in partnership with a single SEA. $500,000-$750,000 for a consortium of TEAs in partnership with a single SEA.

Contingent upon the availability of funds and the quality of applications, we may make additional awards in FY 2013 from the list of unfunded applicants from this competition.

Estimated Average Size of Awards: $450,000 for a single TEA in partnership with a single SEA; $600,000 for a consortium of TEAs in partnership with a single SEA.

Maximum Award: We will reject any application from a single TEA that proposes a budget exceeding $500,000 for a single budget period of 12 months. In addition, we will reject any application from a consortium of TEAs that proposes a budget exceeding $750,000 for a single budget period of 12 months.

The Assistant Secretary for Elementary and Secondary Education may change the maximum amount through a notice published in the Federal Register.

Estimated Number of Awards: 3 to 5.

Note: The Department is not bound by any estimates in this notice.

Project Period: Up to 36 months.

Note: Continuation of each successive grant period is subject to satisfactory performance and availability of funds.

Grant Award Limitations: No applicant may receive more than one grant award.

III. Eligibility Information

1. Eligible Applicants: A TEA in partnership with an SEA, or a consortium of TEAs in partnership with an SEA. In all cases a single TEA will serve as the applicant. A TEA consortium application must comply with the Department's regulations governing group applications in 34 CFR 75.127 through 75.129 and must include a signed consortium agreement that identifies each member of the consortium, binds each member of the group to every statement and assurance made by the applicant in the application, and details the activities that each member of the group would perform under the grant. Letters of support from proposed consortium members do not meet the requirement for a consortium agreement.

2. Cost Sharing or Matching: This competition does not require cost sharing or matching.

IV. Application and Submission Information

1. Address to Request Application Package: You can obtain an application package via the Internet or from the Education Publications Center (ED Pubs).

To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. Fax: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.415.

Individuals with disabilities can obtain a copy of the application package in an accessible format (e.g., braille, large print, audiotape, or compact disc) by contacting the person listed under Accessible Format in section VIII of this notice.

2. Content and Form of Application Submission: Requirements concerning the content of an application, together with the forms you must submit, are in the application package for this competition.

Notice of Intent to Apply: The Department will be able to review grant applications more efficiently if we know the approximate number of applicants that intend to apply. Therefore, the Secretary strongly encourages each potential applicant to notify us of the applicant's intent to submit an application for funding by sending the following information via email to STEP@ed.gov no later than June 12, 2012:

1. Applicant name, mailing address and phone number.

2. Contact person's name and email address.

3. Name of State Education Agency.

4. Whether the applicant intends to apply as a single TEA or a consortium of TEAs.

Applicants that do not complete this form may still apply for funding.

Pre-Application: The Department intends to hold pre-application Webinars designed to provide technical assistance to interested applicants. The first Webinar will be held on June 1, 2012, and repeated on June 5, 2012. Information about Webinar times and instructions for registering are on the Department Web site at http://www2.ed.gov/programs/STEP/index.html. In addition, as a supplement to this notice, the Department has developed a document called “State-Tribal Education Partnership (STEP) Pilot: Responses to Frequently Asked Questions.” This supplemental document is available at http://www2.ed.gov/programs/STEP/index.html.

Page Limit: The application narrative is where you, the applicant, provide the project narrative and management plan to address the selection criteria that reviewers use to evaluate your application. The required budget and budget narrative will be provided in a separate section. You must limit the application narrative to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The page limit does not apply to the cover sheet; the budget section, including the narrative budget justification; the assurances and certifications; or the one-page abstract, the resumes, the bibliography, or the letters of support. However, the page limit does apply to all of the application narrative section.

Our reviewers will not read any pages of your application that exceed the page limit.

3. Submission Dates and Times:

Applications Available: May 29, 2012.

Deadline for Notice of Intent to Apply: June 12, 2012.

Date of Pre-Application Meeting: June 1, 2012, and June 5, 2012.

Deadline for Transmittal of Applications: July 13, 2012.

Applications for grants under this competition must be submitted electronically using the Grants.gov Apply site (Grants.gov)]. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR)—and, after July 2012, with the System for Award Management (SAM), the Government's primary registrant database;

c. Provide your DUNS number and TIN on your application; and

d. Maintain an active CCR or SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR or SAM registration process may take five or more business days to complete. If you are currently registered with the CCR, you may not need to make any changes. However, please make certain that the TIN associated with your DUNS number is correct. Also note that you will need to update your CCR registration on an annual basis. This may take three or more business days to complete. Information on SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition must be submitted electronically unless you qualify for an exception to this requirement in accordance with the instructions in this section.

a. Electronic Submission of Applications.

Applications for grants under the State-Tribal Education Partnership (STEP) Pilot, CFDA number 84.415, must be submitted electronically using the Governmentwide Grants.gov. Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement. You may access the electronic grant application for State-Tribal Education Partnership (STEP) Pilot at www.Grants.gov. You must search for the downloadable application package for this competition by the CFDA number.

Please note the following:

• When you enter the Grants.gov site, you will find information about submitting an application electronically through the site, as well as the hours of operation.

• Applications received by Grants.gov are date and time stamped. Your application must be fully uploaded and submitted and must be dated and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. (Additional, detailed information on how to attach files is in the application instructions.)

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Joyce Silverthorne, U.S. Department of Education, 400 Maryland Avenue SW., Room 3E201, Washington, DC 20202

Fax: (202) 401-0606.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address:

U.S. Department of Education, Application Control Center, Attention: CFDA Number 84.415, LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address:

U.S. Department of Education, Application Control Center, Attention: CFDA Number 84.415, 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your +application; and

(2) The Application Control Center will mail to you a notification of receipt of your grant application. If you do not receive this notification within 15 business days from the application deadline date, you should call the U.S. Department of Education Application Control Center at (202) 245-6288.

V. Application Review Information

1. Selection Criteria: We will use the following selection criteria to evaluate applications submitted under this competition.

The maximum score for all the selection criteria is 100 points. The maximum score for each criterion is indicated in parentheses.

Significance (20 points). In determining the significance of the project the Secretary considers:

(1) The significance of the problem or issue to be addressed by the proposed project.

(2) The potential replicability of the proposed project or strategies, including, as appropriate, the potential for implementation in a variety of settings.

(3) The likelihood that the proposed project will result in system change or improvement.

Quality of the Project Design and Services (30 points). The Secretary considers the quality of the design and services of the proposed project. In determining the quality of the design and services of the proposed project, the Secretary considers:

(1) The extent to which the goals, objectives, and outcomes to be achieved by the proposed project are clearly specified and measurable.

(2) The extent to which the design of the proposed project is appropriate to, and will successfully address, the needs of the target population or other identified needs.

(3) The extent to which the proposed project is designed to build capacity and yield results that will extend beyond the period of Federal financial assistance.

(4) The extent to which the services to be provided by the proposed project involve the collaboration of appropriate partners for maximizing the effectiveness of project services.

Quality of the Management Plan and Personnel (20 points). The Secretary considers the quality of the management plan for the proposed project and of the personnel who will carry out the proposed project. In determining the quality of the management plan and the project personnel, the Secretary considers:

(1) The adequacy of the management plan to achieve the objectives of the proposed project on time and within budget, including clearly defined responsibilities, timelines, and milestones for accomplishing project tasks.

(2) The qualifications, including relevant training and experience, of key project personnel.

(3) The qualifications, including relevant training and experience, of project consultants or subcontractors.

Adequacy of Resources (30 points). The Secretary considers the adequacy of resources for the proposed project. In determining the adequacy of resources for the proposed project, the Secretary considers:

(1) The adequacy of support, including facilities, equipment, supplies, and other resources, from the applicant organization.

(2) The extent to which the costs are reasonable in relation to the objectives, design, and potential significance of the proposed project.

(3) The relevance and demonstrated commitment of each partner in the proposed project to the implementation and success of the project.

(4) The potential for continued support of the project after Federal funding ends, including, as appropriate, the demonstrated commitment of appropriate entities to such support.

(5) The potential for the incorporation of project purposes, activities, or benefits into the ongoing program of the agency or organization at the end of Federal funding.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110

(b) In addition, within nine months from the start of the grant (by June 29, 2013), you must submit to the Department a final agreement described in section I of this notice.

(c) At the end of your project period, you must submit a final performance report, including financial information, as directed by the Secretary. If you receive a multi-year award, you must submit an annual performance report that provides the most current performance and financial expenditure information as directed by the Secretary under 34 CFR 75.118.

The Secretary may also require more frequent performance reports under 34 CFR 75.720(c). For specific requirements on reporting, please go to www.ed.gov/fund/grant/apply/appforms/appforms.html.

4. Performance Measures: The Department has established the following performance measures for the Pilot:

(1) The number of funded projects for which the TEA assumes State-level functions by the beginning of the second grant period.

(2) The number of funded projects that, at the end of the project period, report that the project has resulted in creation of an arrangement under which the TEA will continue to be responsible for the State-level functions delineated in its TEA-SEA agreement after Federal funding ends.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In addition, a major factor the Secretary will consider will be the quality and completeness of the final agreement between the TEA and SEA.

In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Joyce Silverthorne U.S. Department of Education, 400 Maryland Avenue SW., 3E201 Washington, DC 20202. Telephone: (202) 401-0767 or by email: joyce.silverthorne@ed.gov.

If you use a TDD or a TTY, call the FRS, toll free, at 1-800-877-8339.

VIII. Other Information

Accessible Format: Individuals with disabilities can obtain this document and a copy of the application package in an accessible format (e.g., braille, large print, audiotape, or compact disc) [on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Michael Yudin,
Deputy Assistant Secretary for Policy and Strategic Initiatives, Delegated Authority To Perform the Functions and Duties of the Assistant Secretary for Elementary and Secondary Education.

[FR Doc. 2012-12835 Filed 5-25-12; 8:45 am]

BILLING CODE 4000-01-P